DEPARTMENT OF THE INTERIOR

National Park Service

Notice of Inventory Completion: Pierce College District, Lakewood, WA

AGENCY: National Park Service, Interior.

ACTION: Notice.

Notice is here given in accordance with the Native American Graves Protection and Repatriation Act (NAGPRA), 25 U.S.C. 3003, of the completion of an inventory of human remains in the possession of the Pierce College District, Lakewood, WA. The human remains were removed from site 45-PI-07, also known as the Purdy 1 site, at Carr Inlet, Pierce County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Pierce College professional staff in consultation with representatives of the Puyallup Tribe of the Puyallup Reservation, Washington.

Between April 1975 and August 1976, the human remains of a number of Native American individuals were removed from site 45-PI-07, also known as the Purdy 1 site, at Carr Inlet, Pierce County, WA, by a Pierce College instructor, Dale McGinnis, and James Forrest, a Pierce College student. The human remains were initially brought to Fort Steilacoom Community College, now called Pierce College, for storage. At an unknown date, the human remains of an unknown number of individuals were re-interred by representatives of local Indian tribes and First Nations. In 1978, the human remains of a minimum of 29 individuals were transferred to the care of Mr. Forrest. In 2006, Mr. Forrest transferred the human remains to Pierce College. No known individuals were identified. No associated funerary objects are present.

Site 45-PI-07 is a shell mound measuring 5 feet high, 30 feet wide, and 120 feet long. Osteological and archeological analysis indicate that the human remains removed from site 45-PI-07 are of Native American ancestry, based on the presence of extreme degrees of dental ware, marked shoveling of the exposed permanent incisors, blunt nasal sills, rounded chins, squatting facets on the talus, and their flex-kneed burial position, and site context. Archeological materials recovered from the site indicate a wide range of use during the prehistoric and historic periods. Site 45-PI-07 is located within the area long occupied by the Shotlemamish, a Southern Lushootseed speaking group. Descendants of the Shotlemamish are members of the Puyallup Tribe of the Puyallup Reservation, Washington.

Officials of the Pierce College District have determined that, pursuant to 25 U.S.C. 3001 (9-10), the human remains described above represent the physical remains of 29 individuals of Native American ancestry. Officials of the Pierce College District also have determined that, pursuant to 25 U.S.C. 3001 (2), there is a relationship of shared group identity that can be reasonably traced between the Native American human remains and the Puyallup Tribe of the Puyallup Reservation, Washington.

Representatives of any other Indian tribe that believes itself to be culturally affiliated with the human remains should contact Chris MacKersie, District Director of Safety & Security and the Assistant Director of Facilities, Pierce College District, 9401 Farwest Drive SW, Lakewood, WA 98498, (253) 912-3655 December 22, 2006. Repatriation of the human remains to the Puyallup Tribe of the Puyallup Reservation, Washington may proceed after that date if no additional claimants come forward.

Pierce College District is responsible for notifying the Puyallup Tribe of the Puyallup Reservation, Washington that this notice has been published.

Dated: October 26, 2006.
Sherry Hutt,
Manager, National NAGPRA Program.

[FR Doc. E6-19790 Filed 11-21-06; 8:45 am]

BILLING CODE 4312-50-S